U.S.-CHINA ECONOMIC AND SECURITY REVIEW COMMISSION

Notice of Open Public Hearing

AGENCY: U.S.-China Economic and Security Review Commission.

ACTION: Notice of open public hearing—March 10, 2016, Washington, DC.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China.” Pursuant to this mandate, the Commission will hold a public hearing in Washington, DC on Thursday, March 10, 2016, on “China-South Asia Relations.”

Background: This is the third public hearing the Commission will hold during its 2016 report cycle to collect input from academic and industry experts concerning the national security implications of China's military modernization efforts for the United States. The hearing will explore the economic, geopolitical, and security elements of China's South Asia strategy, and examine in detail China's relations with India and Pakistan in particular. In addition, the hearing will assess how China's evolving engagement in the region impacts U.S. interests. The hearing will be co-chaired by Chairman Dennis Shea and Commissioner Katherine Tobin, Ph.D. Any interested party may file a written statement by March 10, 2016, by mailing to the contact below. A portion of each panel will include a question and answer period between the Commissioners and the witnesses.

Location, Date and Time: Room: TBD. Thursday, March 10, 2016, start time is 9:00 a.m. A detailed agenda for the hearing will be posted to the Commission's Web site at www.uscc.gov. Also, please check our Web site for possible changes to the hearing schedule. Reservations are not required to attend the hearing.

FOR FURTHER INFORMATION CONTACT: Any member of the public seeking further information concerning the hearing should contact Anthony DeMarino, 444 North Capitol Street NW., Suite 602, Washington DC 20001; phone: 202-624-1496, or via email at ademarino@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Date: February 24, 2016
Michael Danis,
Executive Director, U.S.-China Economic and Security Review Commission.

[FR Doc. 2016-04339 Filed 2-26-16; 8:45 am]

BILLING CODE 1137-00-P